DEPARTMENT OF THE INTERIOR

National Park Service

Final Environmental Impact Statement/Fire Management Plan, Yosemite National Park, Mariposa, Madera and Tuolumne Counties, CA; Notice of Approval of Record of Decision

Summary: Pursuant to § 102(2)(C) of the National Environmental Policy Act of 1969 (Pub. L. 91-190, as amended) and the implementing regulations promulgated by the Council on Environmental Quality (40 CFR part 1505.2), the Department of the Interior, National Park Service has prepared, and the Regional Director, Pacific West Region has approved, the Record of Decision for the Fire Management Plan for Yosemite National Park. The formal no-action period was officially initiated May 14, 2004, with the U.S. Environmental Protection Agency's Federal Register notification of the filing of the Final Environmental Impact Statement (EIS).

Decision: As soon as practicable the park will begin to implement as its updated Fire Management Plan the “Multiple Action” alternative (also described and analyzed as the Preferred Alternative (D) contained in the Draft and Final EIS. The selected plan features a deliberate, long-term strategy to restore most park ecosystems to their natural range of variability within 15-20 years. Aggressive and passive reduction techniques would be used on 6,425 acres located within ¼ mile of six wildland-urban interface areas. Any actions deemed essential to occur within Wilderness would be executed only after first determining the “minimum tool” appropriate to accomplish the necessary work. As documented in the EIS, this plan was also deemed to be the “environmentally preferred” alternative.

This course of action and three alternatives were identified and analyzed in the Final EIS, and previously in the Draft EIS (the latter was distributed in May 2002). The full spectrum of foreseeable environmental consequences was assessed, and appropriate mitigation measures identified, for each alternative. Beginning with early scoping, through the preparation of the Draft and Final EIS, numerous public meetings were conducted and newsletter updates were regularly provided. Approximately 140 written comments responding to the Draft EIS were received and duly considered. Key consultations which aided in preparing the Draft and Final EIS involved (but were not limited to) the U.S. Fish and Wildlife Service, State Historic Preservation Office, native American Tribes, air quality management districts, adjoining land managing agencies, and U.S. Geological Survey. Local communities, county and city officials, and interested organizations were contacted extensively during initial scoping and throughout the fire planning process.

Copies: Interested parties desiring to review the Record of Decision may obtain a complete copy by contacting the Superintendent, Yosemite National Park, P.O. Box 577, Yosemite, CA 95389; or via telephone request at (209) 372-0200.

Dated: August 1, 2004.
Jonathan B. Jarvis,
Regional Director, Pacific West Region.

[FR Doc. 04-20840 Filed 9-15-04; 8:45 am]

BILLING CODE 4312-F4-P